DEPARTMENT OF AGRICULTURE

Office of the Secretary

Request for Nominations of Members for the National Agricultural Research, Extension, Education, and Economics (NAREEE) Advisory Board, Specialty Crop Committee (SCC), Citrus Disease Subcommittee (CDS), and National Genetic Resources Advisory Council (NGRAC)

AGENCY: Research, Education, and Economics, Department of Agriculture (USDA).

ACTION: Solicit nominations for memberships for the NAREEE Advisory Board, SCC, CDS, and the NGRAC.

SUMMARY: In accordance with the Federal Advisory Committee Act, the U.S. Department of Agriculture (USDA) announces the opening of the solicitation for nominations to fill vacancies on the National Agricultural Research, Extension, Education, and Economics (NAREEE) Advisory Board and its committees and subcommittees for Fiscal Year 2023 and any vacancies that may occur in the current fiscal year.

DATES: Written nominations will be received continuously until September 30, 2022.

SUPPLEMENTARY INFORMATION: All board members will receive reimbursement for per diem and travel expenses incurred for attending meetings and/or conducting other business on behalf of the Board/Subcommittee authorized by 5 U.S.C. 5703 of the Federal Travel Regulation for persons employed intermittently in government service.

Background

National Agricultural Research, Extension, Education and Economics Advisory Board

The NAREEE Advisory Board was established in 1996 via Section 1408 of the National Agricultural Research, Extension, and Teaching Policy Act of 1977 (7 U.S.C. 3123) to provide advice to the Secretary of Agriculture and land-grant colleges and universities on top priorities and policies for food and agricultural research, education, extension, and economics. Section 1408 of the National Agricultural Research, Extension, and Teaching Policy Act of 1977 was amended by the Farm Security and Rural Investment Act of 2002 to reduce the number of members on the NAREEE Advisory Board to 25 members and required the Board to also provide advice to the Committee on Agriculture of the House of Representatives, the Committee on Agriculture, Nutrition, and Forestry of the Senate; the Subcommittee on Agriculture, Rural Development, Food and Drug Administration and Related Agencies of the Committee on Appropriations of the House of Representatives; and the Subcommittee on Agriculture, Rural Development and Related Agencies of the Committee on Appropriations of the Senate. Subsequently, Section 1408 of the Agricultural Improvement Act of 2018 further reduced the number of members from 25 to 15 and changed the categories of membership for the advisory board. Each member of the Board represents a specific category including National Farm or Producer Organizations; Academic or Research Societies; Agricultural Research, Extension and Education; or Industry, Consumer or Rural Interests.

Specialty Crop Committee

The Specialty Crop Committee was created as a committee of the NAREEE Advisory Board in accordance with the Specialty Crops Competitiveness Act of 2004 under title III, section 303 of Public Law 108-465. The committee was formulated to study the scope and effectiveness of research, extension, and economics programs affecting the specialty crop industry. The legislation defines “specialty crops” as fruits, vegetables, tree nuts, dried fruits and nursery crops (including floriculture). The Agricultural Act of 2014 further expanded the scope of the Specialty Crop Committee to provide advice to the Secretary of Agriculture on the relevancy review process of the Specialty Crop Research Initiative, a grant program of the National Institute of Food and Agriculture.

Citrus Disease Subcommittee

The Citrus Disease Subcommittee was established by the Agricultural Act of 2014 (sec. 7103) to advise the Secretary of Agriculture on citrus research, extension, and development needs, engage in regular consultation and collaboration with USDA and other organizations involved in citrus, and provide recommendations for research and extension activities related to citrus disease. The Citrus Disease Subcommittee also advises the Department on the research and extension agenda of the Emergency Citrus Disease Research and Extension Program, a grant program of the National Institute of Food and Agriculture.

Section 1408(a)(2) of the Agricultural Improvement Act of 2018 amended the membership of the Citrus Disease Subcommittee to increase the number of members from 9 members to 11. Members must be a producer of citrus with representation from the following States: Five members from Arizona or California, five members from Florida, and one member from Texas.

National Genetic Resources Advisory Council

The National Genetic Resources Advisory Council was originally established in March, 1992 via section 1634 (7 U.S.C. 5843) of the Food, Agriculture, Conservation and Trade Act of 1990 to formulate recommendations on actions and policies for the collection, maintenance, and utilization of genetic resources; to make recommendations for coordination of genetic resources plans of several domestic and international organizations; and to advise the Secretary of Agriculture and the National Genetic Resources Program, part of the Agricultural Research Service, of new and innovative approaches to genetic resources conservation. It was subsequently re-established in 2012 as a permanent subcommittee of the NAREEE Advisory Board. The Agricultural Improvement Act of 2018 further expanded the responsibilities of the Council to include recommendations on cultivar development and increased the number of members from 9 to 13. The membership is required to have 6 members from scientific disciplines relevant to the National Genetic Resources Program, including agricultural sciences, economics and policy, environmental sciences, natural resource sciences, health sciences, and nutritional sciences; 3 members from the general public and shall include leaders in fields of public policy, community development, trade, international development, law, or management; and 4 members with expertise in cultivar development and animal breed development. In addition, 4 of the members of the NGRAC shall be appointed from among individuals representing: 1862 land-grant colleges and universities; 1890 land-grant colleges and universities; Hispanic-serving institutions; or 1994 Equity in Education land-grant institutions.

Nominations

Nominations are open to all individuals without regard to race, color, religion, sex, national origin, age, mental or physical handicap, marital status, or sexual orientation. To ensure the recommendation of the Advisory Board takes into account the needs of the diverse groups served by the USDA, membership shall include, to the extent practicable, individuals with demonstrated ability to represent the needs of all racial and ethnic groups, women and men, and persons with disabilities.

Please note, individuals may not serve on more than one USDA Federal Advisory Committee. Individuals who are federally registered lobbyists, appointed to committees to exercise their own individual best judgment on behalf of the government (e.g., as Special Government Employees), are ineligible to serve.

All nominees will be carefully reviewed for their relevant experience, expertise, and leadership. Appointed members will serve one-, two-, or three-year terms in order to properly stagger term rotation. All nominees will be vetted before selection. Appointments to the NAREEE Advisory Board and its committees and subcommittees will be made by the Secretary of Agriculture.

Instructions

The following information must be included in the package of materials submitted for each, individual being nominated for consideration: (1) AD-755 https://www.ocio.usda.gov/document/ad-755 stating your full birth name and completed application in its entirety; (2) A letter(s) of nomination stating the Board (Board Category)/Subcommittee (SCC, CDS, NGRAC) must be identified (3) 1 page bio of nominee; and (4) a current copy of the nominee's resumé. You may apply for as many categories on the Advisory Board and Committees and/or subcommittee(s) and this must be stated in your application and nomination letter(s). Nomination packages may be submitted directly by the individual being nominated or by the person/organization recommending the candidate.

Nominee Selection

Nominated individuals will be picked by the Secretary of Agriculture based on how well they meet the required qualifications and the current needs of the Board/Subcommittees. It is anticipated that the members will start serving on the Advisory Board/committees/subcommittee beginning October 1, 2022.

ADDRESSES: All sections of the AD-755 form must be filled out completely and signed from the nominee. The completed AD-755 and any submission of letters of support can be sent via Email to nareee@usda.gov.

FOR FURTHER INFORMATION CONTACT: Kate Lewis, Executive Director, National Agricultural Research, Extension, Education, and Economics Advisory Board, 1400 Independence Avenue SW, Room 6019, The South Building, Washington, DC 20250-2255; telephone: 202-720-3684 or email: nareee@usda.gov. Committee website: https://nareeeab.ree.usda.gov/.

Done at Washington, DC, this day of January 10, 2022.
Cikena Reid,
USDA Committee Management Officer.

[FR Doc. 2022-00650 Filed 1-13-22; 8:45 am]

BILLING CODE 3410-03-P